DEPARTMENT OF JUSTICE

Notice of Lodging of Consent Decree Under the Comprehensive Environmental Response, Compensation, and Liability Act

Notice is hereby given that on September 30, 2005, a proposed Consent Decree in United States v. Grand Truck Western Railroad Incorporated, et al., Civil Action No. 1:05-cv-00672, was lodged with the United States District Court for the Western District of Michigan.

In this action the United States sought, under Sections 106 and 107 of the Comprehensive Environmental Response, Compensation, and Recovery Act (“CERCLA”), 42 U.S.C. 9606 and 9607, to recover costs incurred by the United States in connection with the Verona Well Field Superfund Site (the “Site”) in Battle Creek, Michigan. Under the proposed settlement, the Settling Defendants, who have been conducting the remedy at the Site pursuant to two Unilateral Administrative Orders issued by the U.S. Environmental Protection Agency (“U.S. EPA”), will continue to perform the selected remedy (estimated by U.S. EPA to cost an additional $8.2 million), pay $40,000 of the U.S EPA's past costs incurred at the Site, and pay future oversight costs incurred by the U.S. EPA at the Site from the date of lodging of the Consent Decree. In return, the Settling Defendants will receive contribution protection and a covenant not to sue from the United States for the work at the Site as well as for past and future response costs.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Grand Trunk Western Railroad Incorporated, et al., D.J. Ref. 90-11-2-739.

The Consent Decree may be examined at the Office of the United States Attorney, 330 Ionia Ave., Suite 501, Grand Rapids, MI 49503, and at U.S. EPA Region V, 77 West Jackson Blvd., Chicago, IL 60604. During the public comment period, the Consent Decree may also be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $71.25 (25 cents per page reproduction cost) payable to the U.S. Treasury.

William D. Brighton,
Assistant Chief, Environmental Enforcement Section, Environment and Natural Resources Division.

[FR Doc. 05-20537 Filed 10-12-05; 8:45 am]

BILLING CODE 4410-15-M